DEPARTMENT OF COMMERCE

Foreign-Trade Zones Board

[B-15-2020]

Foreign-Trade Zone (FTZ) 106—Oklahoma City, Oklahoma; Notification of Proposed Production Activity; PRO-PIPE USA, LLC (High-Density Polyethylene Pipe), Shawnee, Oklahoma

PRO-PIPE USA, LLC (PRO-PIPE USA) submitted a notification of proposed production activity to the FTZ Board for its facility in Shawnee, Oklahoma. The notification conforming to the requirements of the regulations of the FTZ Board (15 CFR 400.22) was received on March 5, 2020.

The PRO-PIPE USA facility is located within FTZ 106. The facility is used for the production of high-density polyethylene pipe. Pursuant to 15 CFR 400.14(b), FTZ activity would be limited to the specific foreign-status material and component and the specific finished product described in the submitted notification (as described below) and subsequently authorized by the FTZ Board.

Production under FTZ procedures could exempt PRO-PIPE USA from customs duty payments on the foreign-status component used in export production. On its domestic sales, for the foreign-status material/component noted below, PRO-PIPE USA would be able to choose the duty rate during customs entry procedures that applies to high-density polyethylene pipe (duty rate 3.1%). PRO-PIPE USA would be able to avoid duty on foreign-status components which become scrap/waste. Customs duties also could possibly be deferred or reduced on foreign-status production equipment.

The component/material sourced from abroad is resin (black high-density polyethylene) (duty rate 6.5%). The request indicates that the material/component is subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is April 27, 2020.

A copy of the notification will be available for public inspection in the “Reading Room” section of the Board's website, which is accessible via www.trade.gov/ftz.

For further information, contact Christopher Wedderburn at Chris.Wedderburn@trade.gov or (202) 482-1963.

Dated: March 10, 2020.
Andrew McGilvray,
Executive Secretary.

[FR Doc. 2020-05316 Filed 3-13-20; 8:45 am]

BILLING CODE 3510-DS-P